ENVIRONMENTAL PROTECTION AGENCY

[ER-FRL-8991-3]

Environmental Impacts Statements; Notice of Availability

Responsible Agency: Office of Federal Activities, General Information (202) 564-1399 or http://www.epa.gov/compliance/nepa/. Weekly receipt of Environmental Impact Statements filed 06/28/2010 through 07/02/2010 pursuant to 40 CFR 1506.9.

Notice: In accordance with section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the section 309(a) requirement to make EPA's comments on EISs available to the public. Accordingly, on March 31, 2010, EPA discontinued the publication of the notice of availability of EPA comments in the Federal Register.

EIS No. 20100244, Final EIS, USFS, CO, North San Juan Sheep and Goat Allotments, Proposal to Permit Domestic Livestock Grazing Management, Conejos Peak Ranger District, Rio Grande National Forest, Conejos, Rio Grande and Archuleta Counties, CO, Wait Period Ends: 08/09/2010, Contact: Kelly Garcia 719-274-8971.

EIS No. 20100245, Second Draft EIS (Tiering), USFWS, 00, Hunting of Migratory Birds, Issuance of Regulations, To Annually Evaluate and Establish Appropriate Levels of Take for these Species that are Hunted by Millions of Americans, Comment Period Ends: 03/31/2011, Contact: Robert Trost 503-231-6162.

EIS No. 20100246, Draft EIS, NOAA, NC, Atlantic Sea Scallop Fishery Management Plan, Amendment 15, Implementation of the Annual Catch Limits (ACLs) and Accountability Measures (AMs) to Prevent Overfishing, Gulf of Maine, Georges Bank, NC, Comment Period Ends: 08/23/2010, Contact: Patricia A. Kurkul 978-281-9315.

EIS No. 20100247, Final EIS, USACE, NC, The Town of Nags Head Beach Nourishment Project, Propose to Utilize a Self-Contained Hooper Dredge and Other Feasible Dredging Equipment during a Proposed Construction Window from April through September, Dare County, NC, Wait Period Ends: 08/09/2010, Contact: Raleigh Bland 910-251-4564.

EIS No. 20100248, Final EIS, USFS, UT, Kitty Hawk Administrative Site Master Development Plan, Implementation, Cedar City Ranger District, Dixie National Forest, Cedar City, Iron County, UT, Wait Period Ends: 08/09/2010, Contact: Georgina Lampman 435-865-3794.

EIS No. 20100249, Draft EIS, FHWA, CA, Interstate 5 North Coast Corridor Project, Construction and Operation, Upgrade the Freeway with High Occupancy Vehicle/Managed Lanes (HOV/ML), Auxiliary Lanes, Direct Access Ramps (DAR), and Possibly One General Purposes Lane, San Diego County, CA, Comment Period Ends: 10/07/2010, Contact: Cesar Pere 916-498-5065.

EIS No. 20100250, Final EIS, USFS, ID, Boise National Forest Project, Proposed Amendments to the Land and Resource Management Plan, Wildlife Conservation Strategy (WCS) Phase 1: Forested Biological Community, Located within Portions of Ada, Boise, Elmore, Gem, and Valley Counties, ID, Wait Period Ends: 08/09/2010, Contact: Randall R. Hayman 208-373-4100.

EIS No. 20100251, Final EIS, FHWA, MS, I-69 Section of Independent Utility #11 Project, Construction of Multi-Lane, Interstate Highway from Benoit to Robinsonville, U.S. Army COE section 404 Permit, Mississippi River Bridge, Bolivar, Coahoma, Tunica and Sunflower Counties, MS, Wait Period Ends: 08/09/2010, Contact: E. Claiborne Barnwell, P.E. 601-965-4217.

Amended Notices

EIS No. 20040214, Draft EIS, FTA, CA, WITHDRAWN—Gold Line Phase II—Pasadena to Montclair—Foothill Extension, Address Transportation Problems and Deficiencies, Cities of Pasadena, Arcadia, Monrovia, Durate, Irwindale, Azusa, Glendora, San Dimas, La Verne, Pomona and Claremont in Los Angeles County, and Cities of Montclair and Upland in San Bernardino County, CA, Comment Period Ends: 06/21/2004, Contact: Erv Poka 213-202-3950.

This document is available on the Internet at: http://www.metrogoldline.org.

Revision to FR notice published 05/07/2004: Correction to Agency Code from FHWA to FTA.

EIS No. 20100230, Final EIS, FTA, HI, Honolulu High-Capacity Transit Corridor Project, Provide High-Capacity Transit Service on O'ahu from Kapolei to the University of Hawaii at Manoa and Waikiki, City and County of Honolulu, O'ahu, Hawaii, Wait Period Ends: 07/26/2010, Contact: Ted Matley 415-744-3133.

Revision to FR notice published 06/25/2010: The Federal Aviation Administration (FAA) has adopted the U.S. Department of Transportation's Federal Transit Administration (FTA) Final #20100230 filed with the Environmental Protection Agency 06/25/2010. FAA was a Cooperating Agency for the above FEIS. Recirculation of the document is not necessary under § 1506.3(c) of the Council on Environmental Quality regulations.

Dated: July 6, 2010.
Robert W. Hargrove,
Director, NEPA Compliance Division, Office of Federal Activities.

[FR Doc. 2010-16774 Filed 7-8-10; 8:45 am]

BILLING CODE 6560-50-P